ENVIRONMENTAL PROTECTION AGENCY

[FRL-7264-3]

Peak Oil Superfund Site; Notice of Proposed de Minimis Settlement

AGENCY: Environmental Protection Agency (EPA).

ACTION: Notice of proposed de minimis settlement.

SUMMARY: Under section 122(g)(4) of the Comprehensive Environmental Response, Compensation and Liability Act (CERCLA), the Environmental Protection Agency has offered a de minimis settlement at the Peak Oil Superfund Site (Site) under an Administrative Order on Consent (AOC) to settle claims for past and future response costs at the Site. Approximately 263 parties have returned signature pages accepting EPA's settlement offer. For thirty (30) days following the publication of this notice, EPA will receive written comments relating to the settlement. EPA may withdraw from or modify the proposed settlement should such comments disclose facts or considerations which indicate the proposed settlement is inappropriate, improper, or inadequate. Copies of the proposed settlement are available from: Ms. Paula V. Batchelor, U.S. Environmental Protection Agency, Region IV, CERCLA Program Services Branch, Waste Management Division, 61 Forsyth Street, SW., Atlanta, Georgia 30303, (404) 562-8887.

Comments should reference the Peak Oil Superfund Site, Tampa, Florida, and EPA Docket No. CER-04-2002-3753. Written comments may be submitted to Mr. Greg Armstrong at the above address within 30 days of the date of publication.

Dated: August 8, 2002.
Anita L. Davis,
Acting Chief, CERCLA Program Services Branch, Waste Management Division.

[FR Doc. 02-21292 Filed 8-20-02; 8:45 am]

BILLING CODE 6560-50-P